DEPARTMENT OF ENERGY

Federal Energy Regulatory Commission

[Docket No. CP02-138-000]

Florida Gas Transmission Company; Notice of Request Under Blanket Authorization

April 9, 2002.

Take notice that on April 3, 2002, Florida Gas Transmission Company (FGT), 1400 Smith Street, Houston Texas 77002, filed in Docket No. CP02-138-000 a request pursuant to Sections 157.205 and 157.211(b) of the Commission's Regulations under the Natural Gas Act (18 CFR 157.205, 157.211(b)) for authorization to construct and operate a delivery point located in St. Lucie County, Florida, under FGT's blanket certificate issued in Docket No. CP82-553-000 pursuant to Section 7(c) of the Natural Gas Act, all as more fully set forth in the request.

Copies of this filing are on file with the Commission and are available for public inspection. This filing may also be viewed on the web at http://www.ferc.gov using the “Rims” link, select “Docket#” and follow the instructions (call 202-208-2222 for assistance).

FGT requests authorization to construct and operate delivery point facilities, consisting of a 4-inch tap valve, connecting pipe and electronic flow measurement instrumentation, to serve Tropicana Products, Inc. (Tropicana). FGT states that it would use the facilities to transport up to 6,400 MMBtu equivalent of natural gas per day on a firm basis under capacity obtained through releases from existing certificated levels and therefore would not have an impact on FGT's peak day delivery. FGT estimates the cost of the facilities to be $111,775 and states that FGT would be reimbursed by Tropicana for all costs associated with the facilities. FGT states further that Tropicana would construct approximately 2,300 feet of connecting pipe downstream from FGT's facilities in the existing FT. Pierce South Utilities Authority. FGT asserts that it has sufficient capacity to render the proposed service without detriment or disadvantage to its other existing customers.

Any questions regarding the application should be directed to Stephen T. Veatch, Director, Certificates and Regulatory Reporting, at: (713) 853-6549.

Any person or the Commission's staff may, within 45 days after issuance of the instant notice by the Commission, file pursuant to Rule 214 of the Commission's Procedural Rules (18 CFR 385.214) a motion to intervene or notice of intervention and, pursuant to Section 157.205 of the Regulations under the Natural Gas Act (18 CFR 157.205), a protest to the request. If no protest is filed within the time allowed therefor, the proposed activity shall be deemed to be authorized effective the day after the time allowed for filing a protest. If a protest is filed and not withdrawn within 30 days after the allowed for filing a protest, the instant request shall be treated as an application for authorization pursuant to Section 7 of the Natural Gas Act.

Comments, protests and interventions may be filed electronically via the Internet in lieu of paper. See, 18 CFR385.2001(a)(1)(iii) and the instructions on the Commission's web site under the “e-filing” link.

Magalie R. Salas,
Secretary.

[FR Doc. 02-9022 Filed 4-12-02; 8:45 am]

BILLING CODE 6717-01-P